GENERAL SERVICES ADMINISTRATION

48 CFR Parts 504, 509, and 570

[GSAR Case 2020-G538; Docket No. 2021-0009; Sequence No. 1]

RIN 3090-AK33

General Services Administration Acquisition Regulation; Remove Erroneous Guidance on Illustration of Forms

AGENCY: Office of Acquisition Policy, General Services Administration (GSA).

ACTION: Direct final rule.

SUMMARY: The General Services Administration (GSA) is issuing a direct final rule amending the General Services Administration Acquisition Regulation (GSAR) to redesignate the terminology for unique identification of entities receiving GSA awards. The change to the GSAR eliminates references to the proprietary Data Universal Numbering System (DUNS®) number and conforms to similar changes in the Federal Acquisition Regulation (FAR).

DATES: This direct final rule is effective on June 22, 2021 without further notice unless adverse comments are received by May 24, 2021. If GSA receives adverse comments, we will publish a timely withdrawal in the Federal Register informing the public that the rule will not take effect.

ADDRESSES: Submit comments in response to GSAR Case 2020-G538 to: Regulations.gov: https://www.regulations.gov. Submit comments via the Federal eRulemaking portal by searching for “GSAR Case 2020-G538”. Select the link “Comment Now” that corresponds with GSAR Case 2020-G538. Follow the instructions provided at the “Comment Now” screen. Please include your name, company name (if any), and “GSAR Case 2020-G538” on your attached document. If your comment cannot be submitted using https://www.regulations.gov, call or email the points of contact in the FOR FURTHER INFORMATION CONTACT section of this document for alternate instructions.

Instructions: Please submit comments only and cite GSAR Case 2020-G538 in all correspondence related to this case. Comments received generally will be posted without change to https://www.regulations.gov, including any personal and/or business confidential information provided. To confirm receipt of your comment(s), please check https://www.regulations.gov approximately two to three days after submission to verify posting.

FOR FURTHER INFORMATION CONTACT: Mr. Bryon Boyer, Procurement Analyst, at 817-850-5580 or email at gsarpolicy@gsa.gov, for clarification of content. For information pertaining to status or publication schedules, contact the Regulatory Secretariat at 202-501-4755. Please cite GSAR Case 2020-G538.

SUPPLEMENTARY INFORMATION:

I. Background

GSA is publishing this direct final rule in order to update GSAR references to “DUNS®” (Data Universal Numbering System) to reflect “UEI” (unique entity identifier). The Federal Government removed references to the proprietary Data Universal Numbering System (DUNS®) number. Federal Acquisition Regulation (FAR) Case 2015-022, changed DUNS® references to UEI in the FAR in 81 FR 67736, effective October 31, 2016. This rule's changes to the GSAR are necessary to reconcile to the changes in the FAR. This rule also corrects a technical drafting error in the electronic Code of Federal Regulations (eCFR).

The changes to the FAR changed certain references to DUNS® in GSAR parts 504, 509, and 570.

II. Authority for This Rulemaking

Title 40 of the United States Code (U.S.C.) Section 121 authorizes GSA to issue regulations, including the GSAR, to control the relationship between GSA and contractors.

III. Discussion of the Rule

GSA is amending the GSAR parts 504, 509, 570 to remove references to the proprietary Data Universal Numbering System (DUNS®) number and replace them with references to “unique entity identifier” (UEI). This change will reconcile the GSA supplement to the FAR, which was previously changed to change the references from DUNS® to UEI effective October 31, 2016. This rule harmonizes the language of the GSAR supplement to the FAR.

IV. Executive Order 12866 and 13563

Executive Orders (E.O.s) 12866 and 13563 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. This is not a significant regulatory action and, therefore, was not subject to review under section 6(b) of Executive Order 12866, Regulatory Planning and Review, dated September 30, 1993. This rule is not a major rule under 5 U.S.C. 804.

V. Congressional Review Act

The Congressional Review Act, 5 U.S.C. 801 et seq., as amended by the Small Business Regulatory Enforcement Fairness Act of 1996, generally provides that before a “major rule” may take effect, the agency promulgating the rule must submit a rule report, which includes a copy of the rule, to each House of the Congress and to the Comptroller General of the United States. A major rule cannot take effect until 60 days after it is published in the Federal Register. This rule has been reviewed and determined by OMB not to be a “major rule” under 5 U.S.C. 804(2).

VI. Regulatory Flexibility Act

The Regulation Flexibility Act does not apply to this rule, because this direct final rule does not constitute a significant GSAR revision, and 41 U.S.C. 1707 does not require publication for public comment.

VII. Paperwork Reduction Act

The direct final rule does not contain any information collection requirements that require the approval of the Office of Management and Budget under the Paperwork Reduction Act (44 U.S.C. chapter 35).

List of Subjects in 48 CFR Parts 504, 509, and 570

Government procurement.

Jeffrey A. Koses,
Senior Procurement Executive, Office of Acquisition Policy, Office of Governmentwide Policy, General Services Administration.

Therefore, GSA amends 48 CFR parts 504, 509, and 570 as set forth below:

1. The authority citation for 48 CFR parts 504, 509, and 570 continues to read as follows:

Authority: 40 U.S.C. 121(c).

PART 504—ADMINISTRATIVE MATTERS

§ 504.1103 [Amended]

2. Amend section 504.1103 by—

a. Removing from paragraph (a) “andunique” and adding “and unique” in its place; and

b. Removing from paragraph (b) “DUNS or DUNS+4 number” and adding “unique entity identifier” in its place.

PART 509—CONTRACTOR QUALIFICATIONS

§ 509.406-3 [Amended]

3. Amend section 509.406-3 by removing from paragraph (b)(2) “DUNS Numbers” and adding “unique entity identifiers” in its place.

PART 570—ACQUIRING LEASEHOLD INTERESTS IN REAL PROPERTY

4. Amend section 570.701 by revising and republishing paragraph (a) to read as follows:

§ 570.701 FAR provisions and clauses.

* * * * *

If . . . | Then include . . .
(a) the estimated value of the acquisition exceeds the micro-purchase threshold identified in FAR 2.101 | 52.204-3 Taxpayer Identification. 52.204-6 Unique Entity Identifier. 52.204-7 System for Award Management.
| 52.219-1 Small Business Program Representations.
| 52.219-28 Post-Award Small Business Program Rerepresentation (use if lease term exceeds five years).
| 52.232-23 Assignment of Claims.
| 52.232-33 Payment by Electronic Funds Transfer—System for Award Management.
| 52.233-1 Disputes.
* * * * * * *

[FR Doc. 2021-08024 Filed 4-22-21; 8:45 am]

BILLING CODE 6820-61-P